DEPARTMENT OF THE INTERIOR

National Park Service

[NPS-NRSS-GRD-10780; 2360-N003-NMM]

Proposed Information Collection; Request for Comments

AGENCY: National Park Service (NPS), Interior.

ACTION: Notice; request for comments.

SUMMARY: We (National Park Service) will ask the Office of Management and Budget (OMB) to approve the information collection (IC) described below. To comply with the Paperwork Reduction Act of 1995 and as a part of our continuing efforts to reduce paperwork and respondent burden, we invite the general public and other Federal agencies to comment on this IC. This IC is scheduled to expire on February 28, 2013. We may not conduct or sponsor and a person is not required to respond to a collection unless it displays a currently valid OMB control number.

DATES: Please submit your comment on or before September 18, 2012.

ADDRESSES: Please send your comments on the IC to Edward O. Kassman, Jr., Regulatory Specialist, Energy and Minerals Branch, Geologic Resources Division, National Park Service, P.O. Box 25287, Lakewood, Colorado 80225; or via fax at (303) 987-6792; or via email at Edward_Kassman@nps.gov. Please reference “1024-0064, 36 CFR Part 9, Subpart A—Mining and Mining Claims, 36 CFR Part 9, Subpart B—Non-Federal Oil and Gas Rights” in the subject line of your comments. Please send a copy of your comments to Madonna Baucum, Acting Information Collection Clearance Officer, National Park Service, 1201 Eye St. NW., MS-1242, Washington, DC 20005 (mail); or madonna_baucum@nps.gov (email).

FOR FURTHER INFORMATION CONTACT: Edward O. Kassman, Jr., Regulatory Specialist, Energy and Minerals Branch, Geologic Resources Division, National Park Service, P.O.Box 25287, Lakewood, Colorado 80225; (303) 969-2146, fax (303) 987-6792, or via email at Edward_Kassman@nps.gov.

SUPPLEMENTARY INFORMATION:

I. Abstract

The NPS regulates mineral development activities inside park boundaries pursuant to rights associated with mining claims and non-Federal oil and gas rights under regulations codified at 36 CFR Part 9, Subpart A (“9A Regulations”), and 36 CFR Part 9, Subpart B (“9B Regulations”), respectively. The NPS promulgated both sets of regulations in the late 1970's. In the case of mining claims, the NPS promulgated the 9A Regulations pursuant to congressional authority granted under the Mining in the Parks Act of 1976, 16 U.S.C. 1901 et seq., and individual park enabling statutes. For non-Federal oil and gas rights, the NPS regulates development activities pursuant to authority under the NPS Organic Act of 1916, 16 U.S.C. 1 et seq., and individual enabling statutes. As directed by Congress, the NPS developed the regulations in order to protect park resources and visitor values from the adverse impacts associated with mineral development in park boundaries. The regulations require operators to submit specific technical information describing their future development plans including steps to mitigate the impacts of operations. NPS uses the information to evaluate proposed operations, ensure that all necessary mitigation measures are employed to protect park resources and values, and ensure compliance with all applicable laws and regulations.

II. Data

OMB Control Number: 1024-0064.

Title: 36 CFR Part 9, Subpart A—Mining and Mining Claims, 36 CFR Part 9, Subpart B—Non-Federal Oil and Gas Rights.

Form(s): None.

Type of Request: Extension of a previously approved collection of information.

Description of Respondents: Businesses (one-fourth medium to large publicly owned companies and three-fourth private entities).

Respondent's Obligation: Required to obtain or retain benefits.

Frequency of Response: On occasion.

Activity | Annual responses | Avg. time /response (hr) | Additional 10% for minor correspondence | Total annual burden hours
(1) 36 CFR Part 9, Subpart B for Non-Federal Oil and Gas Operations in the National Park System | 20 | 160 | 160 + 16 = 176 | 3,520
(2) 36 CFR Part 9, Subpart A—Mining and Mining Claims | 4 | 160 | 160 + 16 = 176 | 704
Total | 24 |  |  | 4,224

III. Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: July 11, 2012.
Madonna L. Baucum,
Acting Information Collection Clearance Officer, National Park Service.

[FR Doc. 2012-17303 Filed 7-19-12; 8:45 am]

BILLING CODE 4312-52-P